DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (ofac.treasury.gov).

Notice of OFAC Action(s)

On April 23, 2024, OFAC determined that the property and interests in property subject to U.S. jurisdiction of the following persons are blocked under the relevant sanctions authority listed below.

Individuals

1. HITTA, Sidan Ag (a.k.a. HITTA, Asidan Ag; a.k.a. HITTA, Siddan Ag; a.k.a. “ABU `ABD AL-HAKIM”; a.k.a. “Abu Abdelhakim al-Kidali”; a.k.a. “Abu Qarwani”; a.k.a. “AL-QAYRAWANI, Abd-al-Hakim”), Kidal Region, Mali; DOB 1976; POB Kidal, Mali; nationality Mali; Gender Male; Secondary sanctions risk: section 1(b) of Executive Order 13224, as amended by Executive Order 13886 (individual) [SDGT] [HOSTAGES-EO14078] (Linked To: JAMA'AT NUSRAT AL-ISLAM WAL-MUSLIMIN).

Designated pursuant to section 6(a)(ii)(A)(1) of Executive Order 14078, “Bolstering Efforts to Bring Hostages and Wrongfully Detained United States Nationals Home,” 87 FR 43389 (E.O. 14078), for having materially assisted, sponsored, or provided financial, material, or technological support for, or goods or services to or in support of, an act of hostage-taking of a United States national or the wrongful detention of a United States national abroad.

2. DICKO, Jafar (a.k.a. DICKO, Abdoul Salam), Burkina Faso; DOB 1980; nationality Burkina Faso; Gender Male (individual) [HOSTAGES-EO14078].

Designated pursuant to section 6(a)(ii)(A)(1) of E.O. 14078, for having materially assisted, sponsored, or provided financial, material, or technological support for, or goods or services to or in support of, an act of hostage-taking of a United States national or the wrongful detention of a United States national abroad.

Dated: April 23, 2024.
Bradley T. Smith,
Director, Office of Foreign Assets Control, U.S. Department of the Treasury.

[FR Doc. 2024-09043 Filed 4-25-24; 8:45 am]

BILLING CODE 4810-AL-P